DEPARTMENT OF COMMERCE

Bureau of Economic Analysis

Proposed Information Collection; Comment Request; Direct Investment Surveys: BE-13, Survey of New Foreign Direct Investment in the United States

AGENCY: Bureau of Economic Analysis, Department of Commerce.

ACTION: Notice.

SUMMARY: The Department of Commerce, as part of its continuing effort to reduce paperwork and respondent burden, invites the general public and other Federal agencies to comment on proposed and/or continuing information collections, as required by the Paperwork Reduction Act of 1995.

DATES: Written comments must be submitted on or before August 12, 2019.

ADDRESSES: Direct all written comments to Jennifer Jessup, Departmental Paperwork Clearance Officer, Department of Commerce, Room 6616, 14th and Constitution Avenue NW, Washington, DC 20230, or via email at docpra@doc.gov.

FOR FURTHER INFORMATION CONTACT: Requests for additional information or copies of the information collection instrument and instructions should be directed to Jessica Hanson, Chief, Direct Transactions and Positions Branch (BE-49Q), Bureau of Economic Analysis, U.S. Department of Commerce, 4600 Silver Hill Rd., Washington, DC 20233; or via email at Jessica.Hanson@bea.gov.

SUPPLEMENTARY INFORMATION:

I. Abstract

The Survey of New Foreign Direct Investment in the United States (BE-13) collects information on the acquisition and establishment of U.S. business enterprises by foreign investors and on expansions by existing U.S. affiliates of foreign companies. Foreign direct investment is defined as the ownership or control by one foreign person (foreign parent) of 10 percent or more of the voting securities of an incorporated U.S. business enterprise, or an equivalent interest of an unincorporated U.S. business enterprise, including a branch. The data collected through the survey are used to measure the amount of new foreign direct investment in the United States, assess the impact on the U.S. economy, and ensure complete coverage of BEA's other foreign direct investment statistics.

The Bureau of Economic Analysis (BEA) does not propose any changes to the survey.

II. Method of Collection

Notifications will be mailed to respondents as BEA becomes aware of a potentially reportable investment or when annual cost updates are needed. A business enterprise that meets the reporting requirements of the survey is required to report whether or not it is contacted by BEA. A business enterprise that is contacted by BEA and does not meet the reporting requirements is required to respond to indicate that it does not meet the requirements. The survey is due 45 days after (1) an acquisition is completed, (2) a new U.S. business enterprise is established, (3) an expansion is begun, (4) a cost update is requested by BEA, or (5) a U.S. business enterprise that does not meet the filing requirements for the survey receives a notification letter from BEA.

BEA offers electronic filing through its eFile system for use in reporting on the BE-13 survey forms. In addition, BEA posts all its survey forms and reporting instructions on its website (www.bea.gov/fdi). These may be downloaded, completed, printed, and submitted via fax or mail.

III. Data

OMB Control Number: 0608-0035.

Form Number: BE-13.

Type of Review: Regular submission.

Affected Public: Business or other for-profit organizations.

Estimated Number of Respondents: 2,400 annually, of which approximately 600 file A forms, 180 file B forms, 80 file D forms, 340 file E forms, and 1,200 file Claim for Exemption forms.

Estimated Total Annual Burden Hours: 2,547 hours. Total annual burden is calculated by multiplying the estimated number of submissions of each form by the average hourly burden per form, which is 2.5 hours for the A form, 2.2 hours for the B form, 1.2 hours for the D form, 0.75 hours for the E form, and 0.25 hours for the Claim for Exemption form.

Estimated Time per Respondent: 1.1 hours per respondent (2,547 hours/2,400 respondents) is the average but may vary among respondents because of differences in company size and complexity.

Estimated Total Annual Cost to Public: $0.

Respondent's Obligation: Mandatory.

Legal Authority: International Investment and Trade in Services Survey Act (Pub. L. 94-472, 22 U.S.C. 3101-3108, as amended).

IV. Request for Comments

Comments are invited on: (a) Whether the proposed collection of information is necessary for the proper performance of the functions of the Agency, including whether the information will have practical utility; (b) the accuracy of the Agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer, Commerce Department.

[FR Doc. 2019-12271 Filed 6-10-19; 8:45 am]

BILLING CODE 3510-06-P